DEPARTMENT OF AGRICULTURE

Office of the Secretary

7 CFR Part 2

Delegations of Authority By the Secretary of Agriculture and General Officers of the Department

AGENCY: Office of the Secretary, USDA.

ACTION: Final rule.

SUMMARY: The “Service First” initiative is an agency-wide joint pilot program between the Forest Service and the Bureau of Land Management (BLM) of the U.S. Department of the Interior to promote customer service and efficiency in the management of public lands and National Forest System lands. This final rule delegates authority from the Secretary of Agriculture to the Under Secretary for Natural Resources and Environment to enter into pilot projects with BLM and, where appropriate, to delegate to BLM employees the authority to perform Forest Service duties. This rule also further delegates this authority from the Under Secretary for Natural Resources and Environment to the Chief of the Forest Service.

EFFECTIVE DATE: This rule is effective September 20, 2002.

FOR FURTHER INFORMATION CONTACT: Bill Delaney, Office of Communication, Forest Service, (202) 205-0974.

SUPPLEMENTARY INFORMATION: Section 331 of the fiscal year 1998 Department of the Interior and Related Agencies Appropriations Act (Pub. L. 105-83; November 14, 1997) and Section 330 of the fiscal year 2001 Department of the Interior and Related Agencies Appropriations Act (Pub. L. 106-291; October 11, 2000) authorize the Secretaries of Agriculture and the Interior to make reciprocal delegations of their respective authorities, responsibilities, and duties in support of the “Service First” initiative to promote customer service and efficiency in the management of public lands and National Forest System lands.

In the initial implementation of the “Service First” initiative, the Secretary of Agriculture delegated authority to establish “Service First” pilots and to make reciprocal delegations to Bureau of Land Management (BLM) officials to the Chief of the Forest Service through Secretary's Memorandums, which are part of USDA's internal directive system. Further delegations from the Chief to lower-level Forest Service officials, as necessary to carry out the goals of joint pilot projects, were made through Interim Directive No. 1230-2001-1 to Chapter 1230—Delegations of Authority and Responsibility, of the Forest Service Manual (36 CFR 200.4).

Congress has now authorized establishment of pilot projects across the agency through fiscal year 2005 (Pub. L. 106-291). Accordingly, it is more efficient to provide for a continuing delegation of authority to the Chief through issuance of a rule to Title 7, Code of Federal Regulations, Part 2—Delegations of Authority by the Secretary of Agriculture and General Officers of the Department. Therefore, this final rule amends 7 CFR 2.20 and 2.60 to delegate authority from the Secretary of Agriculture to the Under Secretary for Natural Resources and Environment and to further delegate authority to the Chief of the Forest Service to enter into pilot projects with BLM and to delegate to BLM employees the authority to perform FS duties. Should Congress extend the pilot project authority beyond September 30, 2005, make the Service First authority a continuing authority, or decide not to renew the authority, the Department will revise 7 CFR 2.20 and 2.60 as needed to conform to future legislative action.

This rule relates solely to internal agency management. Therefore, pursuant to 5 U.S.C 553, notice of a proposed rulemaking and opportunity to comment are not required. For this same reason, this rule is also exempt from the provisions of Executive Order No. 12866 on Federal Regulations and Executive Order No. 12988 on Civil Justice Reform. In addition, this action is not a rule as defined by the Regulatory Flexibility Act, 5 U.S.C. 601, et seq. and, thus, is exempt from the provisions of that Act. Accordingly, as authorized by section 808 of the Small Business Regulatory Enforcement Fairness Act of 1996, Public Law 104-121, this rule may be made effective immediately upon publication in the Federal Register.

List of Subjects in 7 CFR Part 2

Authority delegations (Government agencies).

Therefore, for the reasons set forth in the preamble, part 2 of title 7 of the Code of Federal Regulations is amended as follows:

PART 2—DELEGATIONS OF AUTHORITY BY THE SECRETARY OF AGRICULTURE AND GENERAL OFFICERS OF THE DEPARTMENT

1. The authority citation for part 2 continues to read:

Authority: 7 U.S.C. 6912 (a)(1); 5 U.S.C. 301: Reorganization Plan No. 2 of 1953; 3 CFR 1949—1953 Comp., p. 1024.

Subpart C—Delegations of Authority to the Deputy Secretary, the Under Secretaries and Assistant Secretaries

2. Amend § 2.20 by adding a new paragraph (a) (2) (xxxix) to read as follows:

§ 2.20 Under Secretary for Natural Resources and Environment.

(a) * * *

(2) * * *

(xxxix) Enter into pilot projects with the Bureau of Land Management(BLM), U.S. Department of the Interior, in support of the Service First initiative for the purpose of promoting customer service and efficiency in managing National Forest System lands and public lands and delegate to BLM employees those Forest Service authorities necessary to carry out pilot projects (Public Law 106-291).

* * * * *

Subpart J—Delegations of Authority by the Under Secretary for Natural Resources and Environment

3. Amend § 2.60 by adding a new paragraph (a) (48) to read as follows:

§ 2.60 Chief, Forest Service.

(a) * * *

(48) Enter into pilot projects with the Bureau of Land Management(BLM), U.S. Department of the Interior, in support of the Service First initiative for the purpose of promoting customer service and efficiency in managing National Forest System lands and public lands and delegate to BLM employees those Forest Service authorities necessary to carry out those pilot projects (Pub. L. 106-291).

* * * * *

Dated: September 10, 2002.
For Subpart C:
Ann M. Veneman,
Secretary of Agriculture.
Dated: August 30, 2002.
For Subpart J:
Mark Rey,
Under Secretary for Natural Resources and Environment.

[FR Doc. 02-23857 Filed 9-19-02; 8:45 am]

BILLING CODE 3410-11-P